DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 2, 2008, through June 30, 2008.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Alex and Steven Padula on behalf of William Padula, Miami, Florida, Court of Federal Claims Number 08-0001V.

2. Gary Moraga, Santa Rosa, California, Court of Federal Claims Number 08-0002V.

3. Shayna Tatum and Donnell Villa on behalf of Michael Villa, Hawthorne, California, Court of Federal Claims Number 08-0008V.

4. Matt Daniels, Broderline, New Hampshire, Court of Federal Claims Number 08-0009V.

5. Rhonda Kay Rossi, Glendale, Arizona, Court of Federal Claims Number 08-0010V.

6. December and Danny Ledet on behalf of Dane Paul Ledet, Baton Rouge, Louisiana, Court of Federal Claims Number 08-0013V.

7. Megan and Shawn Brewer on behalf of Renee Brewer, Ft. Sill, Oklahoma, Court of Federal Claims Number 08-0014V.

8. Peter J. Dawson, Clifton Springs, New York, Court of Federal Claims Number 08-0016V.

9. Denise and Howard Greenberg on behalf of Joshua Greenberg, Kihei, Hawaii, Court of Federal Claims Number 08-0024V.

10. Michael Patrick Riley, Hamilton, Montana, Court of Federal Claims Number 08-0026V.

11. Kari Cupp on behalf of Raegan Cupp, Mt. Holly, North Carolina, Court of Federal Claims Number 08-0029V.

12. Sharon Brustmaker, Chula Vista, California, Court of Federal Claims Number 08-0030V.

13. Kersten and Scott Rojas on behalf of Cooper Rojas, Batavia, Illinois, Court of Federal Claims Number 08-0041V.

14. Melissa Butler on behalf of Elias Christian Butler, Inwood, West Virginia, Court of Federal Claims Number 08-0045V.

15. Tiffany Lee and Pavel Srnensky on behalf of NinaLee Srnensky, Clifton, New Jersey, Court of Federal Claims Number 08-0046V.

16. Melissa Butler on behalf of Nathan Wesley Butler, Inwood, West Virginia, Court of Federal Claims Number 08-0049V.

17. Elizabeth Farrelly, Brooklyn, New York, Court of Federal Claims Number 08-0052V.

18. Carrie and David Gaines on behalf of Davion Gaines, Tallahassee, Florida, Court of Federal Claims Number 08-0056V.

19. Stanley David Greene on behalf of Nicholas Greene, Bakersfield, California, Court of Federal Claims Number 08-0057V.

20. Gladys Dike, Fort Worth, Texas, Court of Federal Claims Number 08-0058V.

21. Andrea April Hughie on behalf of Micaiah Hughie, Deceased, Georgetown County, South Carolina, Court of Federal Claims Number 08-0061V.

22. Delilah Hurd on behalf of Anthony Hurd, Corinth, Mississippi, Court of Federal Claims Number 08-0065V.

23. Janis Walrond, Smyrna, Tennessee, Court of Federal Claims Number 08-0066V.

24. Kim and Michael Waters on behalf of Karsen Steele Waters, Kwajalein Island, Marshall Islands, Court of Federal Claims Number 08-0076V.

25. Deborah Talley on behalf of Michael Timothy Talley, Gwynn Oak, Maryland, Court of Federal Claims Number 08-0078V.

26. Monica and Roberto Puente on behalf of Gabriela Martinez-Oliver, Miami, Florida, Court of Federal Claims Number 08-0082V.

27. Rachel and Garry Williams on behalf of Madyson Lee Williams, Deceased, Springfield, Missouri, Court of Federal Claims Number 08-0083V.

28. Kathleen and Noel Downey on behalf of Patrick James Downey, Brooklyn, New York, Court of Federal Claims Number 08-0084V.

29. Kathleen and Noel Downey on behalf of Grace Elizabeth Downey, Brooklyn, New York, Court of Federal Claims Number 08-0085V.

30. Grant Heath on behalf of Quinn Heath, Goldsboro, North Carolina, Court of Federal Claims Number 08-0086V.

31. Melissa and Scott McGuire on behalf of William McGuire, Louisville, Kentucky, Court of Federal Claims Number 08-0089V.

32. Sonja Kennedy, Winston-Salem, North Carolina, Court of Federal Claims Number 08-0090V.

33. Chandra Price on behalf of Christopher Wynn, Summerville, South Carolina, Court of Federal Claims Number 08-0093V.

34. Joyce Miranda and Anthony Paul D'Alessandro on behalf of Anthony James D'Alessandro, Culver City, California, Court of Federal Claims Number 08-0097V.

35. Susie and Dan Knight on behalf of Joshua Knight, Somers Point, New Jersey, Court of Federal Claims Number 08-0098V.

36. Kevin Coyne on behalf of Olivia Ellison Coyne, Folsom, California, Court of Federal Claims Number 08-0100V.

37. Nicole Bougie on behalf of Makayla Ann Bougie, Tripler AMC, Hawaii, Court of Federal Claims Number 08-0102V.

38. Shirley Laundrie, Green Bay, Wisconsin, Court of Federal Claims Number 08-0107V.

39. Tiffany Ann Hardy-Bell and Harold Hardy on behalf of Holly Hardy, Lake Charles, Louisiana, Court of Federal Claims Number 08-0108V.

40. Nicole and Joseph Bougie on behalf of Makayla Ann Bougie, Ladson, South Carolina, Court of Federal Claims Number 08-0111V.

41. David Warren Duncan, Stillwater, Oklahoma, Court of Federal Claims Number 08-0112V.

42. Margaret Morgan and Donald Tobin Avant on behalf of Ella Grier Avant, Georgetown, South Carolina, Court of Federal Claims Number 08-0120V.

43. Denise and David Kanefield on behalf of Adam Jay Kanefield, Clovis, California, Court of Federal Claims Number 08-0122V.

44. Madeline Herrell on behalf of Brenton Boone, Fairhope, Alabama, Court of Federal Claims Number 08-0123V.

45. Mary Heller on behalf of Edward Ryan Heller, Greenbrae, California, Court of Federal Claims Number 08-0124V.

46. Amy and Steve Osborne on behalf of Thomas Osborne, Pittsboro, North Carolina, Court of Federal Claims Number 08-0125V.

47. Theresa and Shawn Fish on behalf of Noah Creed Fish, Elmira, New York, Court of Federal Claims Number 08-0126V.

48. Christine and Cody Bielawa on behalf of Evan Bielawa, Troy, New York, Court of Federal Claims Number 08-0131V.

49. Nancy and Will Braveman on behalf of Leo Alexander Braveman, Philadelphia, Pennsylvania, Court of Federal Claims Number 08-0137V.

50. Lucy Jerahian on behalf of Jeremy Jerahian, Riverside, California, Court of Federal Claims Number 08-0138V.

51. Sarah and James Palya on behalf of August Palya, Baden, Pennsylvania, Court of Federal Claims Number 08-0141V.

52. Rachel and James Elliott on behalf of Dylan Elliott, Yakima, Washington, Court of Federal Claims Number 08-0143V.

53. Robin Merlis on behalf of Joel Menache, Brooklyn, New York, Court of Federal Claims Number 08-0144V.

54. Diane Connelly and Christopher Eber Gowan on behalf of Conner Michael, Cumming, Georgia, Court of Federal Claims Number 08-0145V.

55. Lucy Medina on behalf of William Oberg, Martinez, California, Court of Federal Claims Number 08-0146V.

56. Laura and Yehuda Minchenberg on behalf of Shmuel Minchenberg, Tenafly, New Jersey, Court of Federal Claims Number 08-0148V.

57. Lauren and Mark Salzberg on behalf of Justin Salzberg, Potomac, Maryland, Court of Federal Claims Number 08-0149V.

58. Lisa Gorney on behalf of Lyndon Gorney, Lansing, Michigan, Court of Federal Claims Number 08-0150V.

59. Holly and Mike Witherby on behalf of Chase Witherby, LaPorte, Indiana, Court of Federal Claims Number 08-0152V.

60. Marguerita Foley on behalf of Matthew Peter Foley, Raleigh, North Carolina, Court of Federal Claims Number 08-0153V.

61. Jennifer and James Leese on behalf of Dylan James Leese, Newport Beach, California, Court of Federal Claims Number 08-0154V.

62. Kimiko Inoue on behalf of Matthew Musashi Drayton, Davie, Florida, Court of Federal Claims Number 08-0155V.

63. Lisa and Mark Shaver on behalf of Russell Shaver, Garden City, New York, Court of Federal Claims Number 08-0156V.

64. Maria and Stacey Cooper on behalf of Kaylen Cooper, Garden City, New York, Court of Federal Claims Number 08-0157V.

65. Jennie and Ronald Pearson on behalf of Dillon Pearson, Nye, Nevada, Court of Federal Claims Number 08-0158V.

66. Mailene and Frank Emkey on behalf of Chad Emkey, Bunnell, Florida, Court of Federal Claims Number 08-0160V.

67. Ana and Eugene Carrizales on behalf of Christopher Alexander Carrizales, Hanford, California, Court of Federal Claims Number 08-0161V.

68. Kristen and Jesse Howarth on behalf of Noah Howarth, Garden City, New York, Court of Federal Claims Number 08-0162V.

69. Kristen and Jesse Howarth on behalf of Gavin Howarth, Garden City, New York, Court of Federal Claims Number 08-0163V.

70. Shefa Taha on behalf of Jamil H. Jamil, Fairview, New Jersey, Court of Federal Claims Number 08-0165V.

71. Sheila and Richard Lynard on behalf of Andrew Lynard, Bel Air, Maryland, Court of Federal Claims Number 08-0166V.

72. Jessica and Mark Harper on behalf of Andrew Harper, Garden City, New York, Court of Federal Claims Number 08-0167V.

73. Janine and Rick Allbritton on behalf of Joshua Allbritton, Garden City, New York, Court of Federal Claims Number 08-0168V.

74. Stephanie and Salvatore Barbatano on behalf of James Barbatano, Ann Arbor, Michigan, Court of Federal Claims Number 08-0170V.

75. Nelly and Leon Huppert on behalf of Michael Andrew Huppert, Garden City, New York, Court of Federal Claims Number 08-0171V.

76. Michelle and Jonathan Scott on behalf of Evan Phillip Scott, Garden City, New York, Court of Federal Claims Number 08-0172V.

77. Andrea and Michael Banks on behalf of Emily Banks, Flint, Michigan, Court of Federal Claims Number 08-0173V.

78. Denise Gingola on behalf of Nicholas Gingola, Milton, Massachusetts, Court of Federal Claims Number 08-0174V.

79. Shayla Edwards on behalf of Logan Edwards-Odom, Jacksonville, Florida, Court of Federal Claims Number 08-0175V.

80. Rose and Christopher Ziemba on behalf of Colin Ziemba, Plainfield, Illinois, Court of Federal Claims Number 08-0176V.

81. Filomena and Frank Laforgia on behalf of Dean Francis Laforgia, Oakland, New Jersey, Court of Federal Claims Number 08-0178V.

82. Felicia and Randall Dalme on behalf of Memphis Dalme, New Orleans, Louisiana, Court of Federal Claims Number 08-0179V.

83. Monica Bice on behalf of Jade Bice, New Port Richey, Florida, Court of Federal Claims Number 08-0180V.

84. Lisa and Jeff Carson on behalf of Ian Carson, Ormond Beach, Florida, Court of Federal Claims Number 08-0181V.

85. Jennifer Wirth on behalf of Mack Wirth, Jacksonville, Florida, Court of Federal Claims Number 08-0182V.

86. Kelly and Robert Speidel on behalf of Garrison Speidel, Garden City, New York, Court of Federal Claims Number 08-0183V.

87. Natalie and Keith Tucker on behalf of Austin Tucker, Jacksonville Beach, Florida, Court of Federal Claims Number 08-0184V.

88. Christina Loudermilk on behalf of James Holmes, Rockford, Illinois, Court of Federal Claims Number 08-0185V.

89. Catherine and Jerald O'Malley on behalf of Matthew O'Malley, South Easton, Massachusetts, Court of Federal Claims Number 08-0187V.

90. Christine and Frankie Schexnailder on behalf of Benjamin Schexnailder, Lafayette, Louisiana, Court of Federal Claims Number 08-0188V.

91. Traci and Matthew Gunning on behalf of Griffin Parker Gunning, Avon, Indiana, Court of Federal Claims Number 08-0189V.

92. William Boundroukas on behalf of Katerina Boundroukas, Niles, Illinois, Court of Federal Claims Number 08-0193V.

93. Zetta Black, Wescosville, Pennsylvania, Court of Federal Claims Number 08-0197V.

94. Shannon and Fuhpow Liew on behalf of Devin Liew, Littleton, Colorado, Court of Federal Claims Number 08-0199V.

95. Michelle Buddemeyer on behalf of Hayden Buddemeyer, Baltimore, Maryland, Court of Federal Claims Number 08-0200V.

96. Shirley and Scott Olthoff on behalf of Kristen Olthoff, Antioch, California, Court of Federal Claims Number 08-0201V.

97. Kristie and Aaron Burchit on behalf of Aidan Burchit, Riverside, California, Court of Federal Claims Number 08-0202V.

98. Stacy and James McAleer on behalf of Justin James McAleer, Oakland, New Jersey, Court of Federal Claims Number 08-0203V.

99. Rebecca and Jon Carroll on behalf of Jon Lucas Carroll, Blue Ridge, Georgia, Court of Federal Claims Number 08-0204V.

100. Kim and Michael Ryan on behalf of Christopher Ryan, Hooksett, New Hampshire, Court of Federal Claims Number 08-0205V.

101. Patricia and Craig Anderson on behalf of Ethan R. Anderson, Selah, Washington, Court of Federal Claims Number 08-0206V.

102. Bee Tan and Xiangdong He on behalf of Enoch He, Lewisville, Texas, Court of Federal Claims Number 08-0207V.

103. Bret Kreizenbeck on behalf of Connor James Kreizenbeck, Hanford, California, Court of Federal Claims Number 08-0209V.

104. Kasondra Jenkins on behalf of Trevor Shane Jenkins, Borger, Texas, Court of Federal Claims Number 08-0210V.

105. Crystal Ann Terwilleger on behalf of Michael Cyrel Terwilleger, Vancouver, Washington, Court of Federal Claims Number 08-0216V.

106. Susan Langsjoen on behalf of Mikael Langsjoen, Citrus Heights, California, Court of Federal Claims Number 08-0217V.

107. Jenny Shoop on behalf of Jacob Shoop, Little Rock, Arkansas, Court of Federal Claims Number 08-0219V.

108. Elizabeth and Paul Lawrence Starita on behalf of Matthew Anthony Clark Starita, Encinitas, California, Court of Federal Claims Number 08-0220V.

109. Debra and Joseph Key on behalf of Ryan Frances Key, San Dimas, California, Court of Federal Claims Number 08-0222V.

110. Dawn and Kenneth Berge on behalf of Zachary Berge, Eglin AFB, Florida, Court of Federal Claims Number 08-0223V.

111. Catherine Garcia-O'Malley and Jerald O'Malley on behalf of Maxwell O'Malley, South Easton, Massachusetts, Court of Federal Claims Number 08-0226V.

112. Angie Nelson and Jacob Staton on behalf of Johnny Staton, Greensboro, North Carolina, Court of Federal Claims Number 08-0227V.

113. Catherine Irene and George Corder on behalf of Catherine Irene Corder, Morgantown, West Virginia, Court of Federal Claims Number 08-0228V.

114. Richard Stiles, Richland, Washington, Court of Federal Claims Number 08-0232V.

115. Beatriz and Petros Kouracles on behalf of Petros Enzo Kouracles, Boston, Massachusetts, Court of Federal Claims Number 08-0233V.

116. Kimberly and Michael Corcoran on behalf of Michael Cocoran, III, Jaffrey, New Hampshire, Court of Federal Claims Number 08-0234V.

117. Raquel Fragoso, Highland Heights, Ohio, Court of Federal Claims Number 08-0236V.

118. Lesbia Backus on behalf of Sarah Backus, Montgomery, Alabama, Court of Federal Claims Number 08-0239V.

119. Anna and Michael Kirk on behalf of Ava Kirk, Maple Shade, New Jersey, Court of Federal Claims Number 08-0241V.

120. Richard Miller, Fort Hood, Texas, Court of Federal Claims Number 08-0242V.

121. Erin Patricia O'Neill, San Antonio, Texas, Court of Federal Claims Number 08-0243V.

122. Catherine and John Christiansen on behalf of William Christiansen, Bellmore, New York, Court of Federal Claims Number 08-0244V.

123. Karen McPhail, Everett, Washington, Court of Federal Claims Number 08-0245V.

124. Lynda Overton on behalf of JanaLee Nugent, Craig, Colorado, Court of Federal Claims Number 08-0247V.

125. Christine Hoso, Concord, New Hampshire, Court of Federal Claims Number 08-0248V.

126. Maria Agnes Calimag and Butch Rhandi Domingo on behalf of Alessandra, Domingo, Deceased, Lynnwood, Washington, Court of Federal Claims Number 08-0251V.

127. Dorothy and Kevin Lind on behalf of Nelson Lind, Torrance, California, Court of Federal Claims Number 08-0252V.

128. Fiona Jane and Eugene John Doskocz on behalf of Evan John Doskocz, Canton, Michigan, Court of Federal Claims Number 08-0253V.

129. Fiona Jane and Eugene John Doskocz on behalf of Tyler Charles Doskocz, Canton, Michigan, Court of Federal Claims Number 08-0254V.

130. Kimberly Lindsey on behalf of Merrick Lindsey, Vero Beach, Florida, Court of Federal Claims Number 08-0258V.

131. Brian Greubel on behalf of Brandon Greubel, Chula Vista, California, Court of Federal Claims Number 08-0259V.

132. Valiente Escalante, Juneau, Alaska, Court of Federal Claims Number 08-0264V.

133. Teresa Rappleyea on behalf of Charles R.H. Rappleyea, Charlottesville, Virginia, Court of Federal Claims Number 08-0265V.

134. Samuel Carrino, Somers Point, New Jersey, Court of Federal Claims Number 08-0266V.

135. Melisa and William McNabb on behalf of Meghan McNabb, McKees Rocks, Pennsylvania, Court of Federal Claims Number 08-0267V.

136. Ana Hope and Matthew Kirk Couser on behalf of David Andrew Couser, Murfreesboro, Tennessee, Court of Federal Claims Number 08-0268V.

137. Beth Sneed on behalf of Daniel Staten-Sneed, Hixson, Tennessee, Court of Federal Claims Number 08-0272V.

138. Shannon Deveney and Matthew Kalmenson on behalf of Jake Matthew, Kings Park, New York, Court of Federal Claims Number 08-0273V.

139. Janet and Vance Sorell on behalf of Abigail Sorell, Delmar, New York, Court of Federal Claims Number 08-0274V.

140. Samornrat and Michael Ponzio on behalf of Jason Ponzio, Fort Belvoir, Virginia, Court of Federal Claims Number 08-0276V.

141. Tisha and Ryan Mette on behalf of Ayden Patrick Mette, Pierre, South Dakota, Court of Federal Claims Number 08-0284V.

142. Roberta and Timothy Baumann on behalf of Thomas Josef Baumann, Long Beach, California, Court of Federal Claims Number 08-0285V.

143. Roberta DeMetsenare on behalf of Marcel DeMetsenare, Deceased, Lapeer, Michigan, Court of Federal Claims Number 08-0289V.

144. Allen Edwin Lane, Morristown, New Jersey, Court of Federal Claims Number 08-0292V.

145. Christy and Brad Attaway on behalf of Brad Attaway, Jr., Fort Walton Beach, Florida, Court of Federal Claims Number 08-0293V.

146. Heidi Brazus on behalf of Annalise Brazus, Mentor, Ohio, Court of Federal Claims Number 08-0295V.

147. Maria Futo and Kurt Rhoney on behalf of Delsin Rhoney, Somers Point, New Jersey, Court of Federal Claims Number 08-0296V.

148. Sheridan Star Sievers on behalf of Jennifer Sweeden, Covina, California, Court of Federal Claims Number 08-0297V.

149. Trudy Snyder and Thomas Seem on behalf of Riley Seem, Youngstown, Ohio, Court of Federal Claims Number 08-0300V.

150. Charles Bonner, Jr., Kings Point, New York, Court of Federal Claims Number 08-0301V.

151. Duane Bundy, Buffalo, New York, Court of Federal Claims Number 08-0302V.

152. Sherry and Barry Sellers on behalf of Casey Sellers, Kernersville, North Carolina, Court of Federal Claims Number 08-0303V.

153. Dorothy and Mark Clarke on behalf of Mary Clark, Minneapolis, Minnesota, Court of Federal Claims Number 08-0305V.

154. Heather Marr on behalf of Dominic Marr, Gladwin, Michigan, Court of Federal Claims Number 08-0306V.

155. Safia Weged and Hussein Hashi on behalf of Sahra Hashi, Marblehead, Massachusetts, Court of Federal Claims Number 08-0307V.

156. Safia Weged and Hussein Hashi on behalf of Osob Hashi, Marblehead, Massachusetts, Court of Federal Claims Number 08-0308V.

157. Indranie Ramnauth on behalf of Regina Mia Abigail Ramnauth, Garden City, New York, Court of Federal Claims Number 08-0309V.

158. Cesar Tricoche, Kissimmee, Florida, Court of Federal Claims Number 08-0310V.

159. Bridget and Jason Byers on behalf of Brooke Byers, Louisville, Kentucky, Court of Federal Claims Number 08-0311V.

160. Kristin Kauffman on behalf of Truman Kauffman, Wyoming, Michigan, Court of Federal Claims Number 08-0313V.

161. Mercedes and Gerardo Orozco on behalf of Karla Orozco, Greeley, Colorado, Court of Federal Claims Number 08-0315V.

162. Julie Rebello on behalf of Mackenzie Rebello, Walnut Creek, California, Court of Federal Claims Number 08-0316V.

163. Serina Kasparian on behalf of Sterling Kasparian, Las Vegas, Nevada, Court of Federal Claims Number 08-0317V.

164. Larissa and Benjamin Wozney on behalf of Cassandra Wozney, Glenview, Illinois, Court of Federal Claims Number 08-0322V.

165. James and Paula Bencivengo on behalf of James Bencivengo, White Plains, New York, Court of Federal Claims Number 08-0328V.

166. Lori and Raymond Zinar on behalf of Noah Graham Zinar, Keller, Texas, Court of Federal Claims Number 08-0333V.

167. Dina and Rodney Caudillo on behalf of Rodney P. Caudillo, Chula Vista, California, Court of Federal Claims Number 08-0334V.

168. Julie and Rufus Davis on behalf of Seth Davis, Fayetteville, Georgia, Court of Federal Claims Number 08-0335V.

169. Shelly Walker on behalf of Vance Walker, Deceased, Hayden, Idaho, Court of Federal Claims Number 08-0336V.

170. Cheri Martin, Scottsdale, Arizona, Court of Federal Claims Number 08-0339V.

171. Lisa Hughes on behalf of Eli Hughes, New Castle, Delaware, Court of Federal Claims Number 08-0341V.

172. Jennifer and Christopher Steelman on behalf of Hayden Steelman, Tooele, Utah, Court of Federal Claims Number 08-0344V.

173. Gregory Schwartz, M.D., Denver, Colorado, Court of Federal Claims Number 08-0346V.

174. Frances and Daniel Aull on behalf of William Daniel Blake Aull, Deceased, Owensboro, Kentucky, Court of Federal Claims Number 08-0347V.

175. Brenda Cook, Columbus, Ohio, Court of Federal Claims Number 08-0348V.

176. Rene-Ann and Rick Tedaldi on behalf of Ryan Tedaldi, Monroe, New York, Court of Federal Claims Number 08-0350V.

177. Tina Chorman on behalf of Kainoa Chorman, Kailua, Hawaii, Court of Federal Claims Number 08-0351V.

178. Jill and Gonzalo Martinez on behalf of Santiago Martinez, Baltimore, Maryland, Court of Federal Claims Number 08-0353V.

179. Jill and Jeffrey Hartman on behalf of Jake Patrik Hartman, Orlando, Florida, Court of Federal Claims Number 08-0355V.

180. Andrea and Jonathan Paz on behalf of Anastasia Paz, Miami, Florida, Court of Federal Claims Number 08-0361V.

181. Tracy Krueger and Michael Graveen on behalf of Jason Graveen, Jacksonville, Florida, Court of Federal Claims Number 08-0362V.

182. Irfan Ahmad on behalf of Suleman Ahmad, Brooklyn, New York, Court of Federal Claims Number 08-0363V.

183. Sabrina Bukowski on behalf of Derek Cruthers, Covington, Kentucky, Court of Federal Claims Number 08-0364V.

184. Albert Evans, Dallas, Texas, Court of Federal Claims Number 08-0365V.

185. Shelley and Dennis Anders on behalf of Hannah Nicole Anders, Chicago, Illinois, Court of Federal Claims Number 08-0369V.

186. Regina and Emmanuel Williams on behalf of Titus Williams, Bensalem, Pennsylvania, Court of Federal Claims Number 08-0370V.

187. Diane and David Rivard on behalf of Lindsay M. Rivard, Deceased, Fairfax, Virginia, Court of Federal Claims Number 08-0371V.

188. Audra Hyatt on behalf of Joshua Hyatt, Flint, Michigan, Court of Federal Claims Number 08-0372V.

189. Juan Manuel Briceno on behalf of Manuel Briceno, San Bernardino, California, Court of Federal Claims Number 08-0374V.

190. Jenny Schoonbee and Mark McClure on behalf of Tyler Mark McClure, Aloha, Oregon, Court of Federal Claims Number 08-0376V.

191. Benedetta and Brian Stillwell on behalf of Benjamin Stillwell, Covington, Kentucky, Court of Federal Claims Number 08-0377V.

192. Deborah and John Berninger on behalf of Olivia Berninger, Covington, Kentucky, Court of Federal Claims Number 08-0378V.

193. Deborah and John Berninger on behalf of Alexander Berninger, Covington, Kentucky, Court of Federal Claims Number 08-0379V.

194. Bonita and Mike Hodde on behalf of Travis Lawrence Hodde, Houston, Texas, Court of Federal Claims Number 08-0380V.

195. Cheryl and Mark Shafer on behalf of Andrew Jacob Shafer, Memphis, Tennessee, Court of Federal Claims Number 08-0381V.

196. Michele and Joseph Libertella on behalf of Joseph Libertella, West Islip, New York, Court of Federal Claims Number 08-0382V.

197. Tisha and Joey Gotte on behalf of Aaron Gotte, Marietta, Georgia, Court of Federal Claims Number 08-0383V.

198. Nachama and David Palace on behalf of Shneur Zalman Palace, Los Angeles, California, Court of Federal Claims Number 08-0388V.

199. Roberta and Doreen Camerota on behalf of Jolie Camerota, Blackwood, New Jersey, Court of Federal Claims Number 08-0389V.

200. James Noonan-Sloan, Boston, Massachusetts, Court of Federal Claims Number 08-0390V.

201. Melinda and Timothy Walsh on behalf of Clarissa Walsh, Clearwater, Florida, Court of Federal Claims Number 08-0391V.

202. Natalie and Daniel Carpentieri on behalf of Jake Carpentieri, Yonkers, New York, Court of Federal Claims Number 08-0392V.

203. Kami and Brandon Goldstein on behalf of Jake Goldstein, Gilbert, Arizona, Court of Federal Claims Number 08-0393V.

204. Galina and Boris Epelbaum on behalf of Mark Epelbaum, Morton Grove, Illinois, Court of Federal Claims Number 08-0394V.

205. Suzanne and Matthew Anderson on behalf of Natalie Christine Anderson, Wixom, Michigan, Court of Federal Claims Number 08-0396V.

206. Marie Nieve Osura on behalf of Ashley Giselle Peraza, Deceased, Fort Smith, Arkansas, Court of Federal Claims Number 08-0397V.

207. Nora and Richard Middleton on behalf of Bryce Middleton, Encinitas, California, Court of Federal Claims Number 08-0399V.

208. Criselda Holguin, Boston, Massachusetts, Court of Federal Claims Number 08-0401V.

209. Jamila and Rickey Harris on behalf of Morgan Marie Harris, Huntsville, Alabama, Court of Federal Claims Number 08-0402V.

210. Christina and Paul Calabro on behalf of Samantha Calabro, Ridgefield, Connecticut, Court of Federal Claims Number 08-0403V.

211. Debra and Jason Sussman on behalf of Sam Sussman, Ormond Beach, Florida, Court of Federal Claims Number 08-0404V.

212. Debra and Jason Sussman on behalf of Luke Sussman, Ormond Beach, Florida, Court of Federal Claims Number 08-0405V.

213. Tenzin and Mike Bottorhoff on behalf of Troy Bottorhoff, North Bend, Oregon, Court of Federal Claims Number 08-0411V.

214. Melissa and James Hendrix on behalf of Devan Jakob Hendrix, Dover, Delaware, Court of Federal Claims Number 08-0412V.

215. Amy and Stefan Hanson on behalf of Amory Evan Hanson, Huntington Beach, California, Court of Federal Claims Number 08-0413V.

216. Stacey and Brett Stubblefield on behalf of Riley Stubblefield, San Antonio, Texas, Court of Federal Claims Number 08-0414V.

217. Gena and Duane Graddy on behalf of Spencer Graddy, Tullahoma, Tennessee, Court of Federal Claims Number 08-0416V.

218. Robin and Michael Dooley on behalf of Nicholas Dooley, San Bernadino, California, Court of Federal Claims Number 08-0418V.

219. Susan Smith and Michael Greene on behalf of Aidan Alexander Greene, Brooklyn, New York, Court of Federal Claims Number 08-0421V.

220. Beth and Kenneth Mulholland on behalf of Connor David Mulholland, Redondo Beach, California, Court of Federal Claims Number 08-0422V.

221. Angela and John Kevin Queenan on behalf of John Taylor Queenan, Pleasanton, California, Court of Federal Claims Number 08-0423V.

222. Jennifer and Paul Bouckaert on behalf of Caleb Bouckaert, Wildwood, Missouri, Court of Federal Claims Number 08-0424V.

223. Doreen and Robert Camerota on behalf of Maria Camerota, Blackwood, New Jersey, Court of Federal Claims Number 08-0425V.

224. Rhonda and Dale Vega on behalf of Jessica Vega, Gardnerville, Nevada, Court of Federal Claims Number 08-0429V.

225. Luisanne Gonzalez on behalf of Kevin Quintero, Miami, Florida, Court of Federal Claims Number 08-0436V.

226. Laura and Dennis Taylor on behalf of Dennis Taylor, III, Covington, Kentucky, Court of Federal Claims Number 08-0437V.

227. Ana Mendez and Edwin Garcia on behalf of Cassandra Garcia, North Hollywood, California, Court of Federal Claims Number 08-0438V.

228. Clarence Harris, Jr. on behalf of Clarence Harris, III, Memphis, Tennessee, Court of Federal Claims Number 08-0440V.

229. Ina Bennett and Donald Cal on behalf of Donald Cal, Jr., Baraboo, Wisconsin, Court of Federal Claims Number 08-0445V.

230. Jeani and Robert Gillespie on behalf of Michael Gillespie, Overland Park, Kansas, Court of Federal Claims Number 08-0446V.

231. Laura Parsons on behalf of Jesalee Parsons, McCurtain County, Oklahoma, Court of Federal Claims Number 08-0447V.

232. Tanya and Steven Pyrdeck on behalf of Connor Pyrdeck, Chesterfield, Missouri, Court of Federal Claims Number 08-0448V.

233. Nia Hall on behalf of Asha Hall, Boston, Massachusetts, Court of Federal Claims Number 08-0451V.

234. Lana Khoulgnaeva on behalf of Nina Ekeev, Garden City, New York, Court of Federal Claims Number 08-0452V.

235. Monica and Lloyd Lewis on behalf of Lloyd Lewis, Jr., Greenville, North Carolina, Court of Federal Claims Number 08-0459V.

236. Mylene and Rosaurio Sabile on behalf of Micah Daniel Sabile, Vallejo, California, Court of Federal Claims Number 08-0461V.

237. Rachel and Joel Moyer on behalf of Sarah Moyer, Huber Heights, Ohio, Court of Federal Claims Number 08-0463V.

238. Mary Ann Zoccolillo, Toms River, New Jersey, Court of Federal Claims Number 08-0467V.

239. Virginia Adams, Monaca, Pennsylvania, Court of Federal Claims Number 08-0468V.

240. Syritta Mitchell on behalf of Jayden Bradford, Oakland, California, Court of Federal Claims Number 08-0469V.

241. Lynn Burklund on behalf of Joseph Burklund, Seattle, Washington, Court of Federal Claims Number 08-0471V.

242. Edward Novak on behalf of Dana Novak, Boston, Massachusetts, Court of Federal Claims Number 08-0472V.

243. Gary Bragg on behalf of Edgar Bragg, Deceased, Lafayette, Colorado, Court of Federal Claims Number 08-0477V.

244. Gabrielle Gourrier on behalf of Emmanuel Gourrier, Los Angeles, California, Court of Federal Claims Number 08-0478V.

Dated: November 19, 2008.
Elizabeth M. Duke,
Administrator.

[FR Doc. E8-28058 Filed 11-25-08; 8:45 am]

BILLING CODE 4165-15-P